GENERAL SERVICES ADMINISTRATION

48 CFR Part 552

[GSAR Amendment 2005-02; GSAR Case 2005-G502 (Change 15)]

RIN 3090-AI12

General Services Administration Acquisition Regulation; Veteran and Service-Disabled Veteran-Owned Small Business Goals in Subcontracting Plans

AGENCIES: General Services Administration (GSA), Office of the Chief Acquisition Officer.

ACTION: Final rule.

SUMMARY: The General Services Administration (GSA) is amending the General Services Administration Acquisition Regulation (GSAR) in order to be consistent with the Federal Acquisition Regulation (FAR), to update GSAR clauses pertaining to subcontracting plans to include veteran-owned and service-disabled veteran-owned small businesses.

DATES: Effective Date: June 3, 2005.

FOR FURTHER INFORMATION CONTACT: The Regulatory Secretariat (VIR), Room 4035, GS Building, Washington, DC, 20405, (202) 501-4755, for information pertaining to status or publication schedules. For clarification of content, contact Rhonda Cundiff, Procurement Analyst, at (202) 501-0044. Please cite Amendment 2005-02, GSAR case 2005-G502 (Change 15).

SUPPLEMENTARY INFORMATION:

A. Background

The General Services Administration (GSA) is issuing a final rule to amend the General Services Administration Acquisition Regulation (GSAR) in order to be consistent with changes to the FAR made by FAR case 2000-302, in Federal Acquisition Circulars 97-20, 2001-01 and 2001-01 Correction. These changes implemented the Veterans Entrepreneurship and Small Business Development Act of 1999 (PL 106-50) and the Small Business Reauthorization Act of 2000 (part of the Consolidated Appropriations Act, 2001). FAR case 2000-302 added additional subcontracting plan goal requirements for veteran-owned and service-disabled veteran-owned small business concerns. This GSAR rule amends GSAR 552 to incorporate these subcontracting plan categories into subcontracting plans.

This is not a significant regulatory action and, therefore, was not subject to review under Section 6(b) of Executive Order 12866, Regulatory Planning and Review, dated September 30, 1993. This rule is not a major rule under 5 U.S.C. 804.

B. Regulatory Flexibility Act

The Regulatory Flexibility Act does not apply to this rule. This final rule does not constitute a significant GSAR revision within the meaning of FAR 1.501 and Public Law 98-577, and publication for public comments is not required because the Federal Acquisition Regulation already covers the requirement for subcontracting goals for veteran-owned small businesses and service-disabled veteran-owned small businesses.

C. Paperwork Reduction Act

The Paperwork Reduction Act does not apply because the changes to the GSAR do not impose recordkeeping or information collection requirements, or otherwise collect information from offerors, contractors, or members of the public that require approval of the Office of Management and Budget under 44 U.S.C.3501, et seq.

This information is an extension of a requirement already included in the FAR. The only difference in the FAR requirement and the GSAR requirement in 519.705-2 is that for all negotiated solicitations having an anticipated award value over $500,000 ($1,000,000 for construction), submission of a subcontracting plan by other than small business concerns is required when a negotiated acquisition meets four conditions: (1) when the contracting officer anticipates receiving individual contract plans (not commercial plans); (2) when the award is based on trade-offs among cost or price and technical and/or management factors under FAR 15.101-1; (3) the acquisition is not a commercial item acquisition; and (4) the acquisition offers more than minimal subcontracting opportunities.

List of Subjects in 48 CFR Part 552

Government procurement.

Dated: May 24, 2005
David A. Drabkin,
Senior Procurement Executive,Office of the Chief Acquisition Officer, General Services Administration.

Therefore, GSA amends 48 CFR part 552 as set forth below:

PART 552—SOLICITATION PROVISIONS AND CONTRACT CLAUSES

1. The authority citation for 48 CFR part 552 continues to read as follows:

Authority: 40 U.S.C. 121(c).

552.219-71 [Amended]

2. Amend section 552.219-71 by—

a. Removing from the introductory text the reference “519.708” and inserting “519.708-70(a)” in its place; and

b. Revising the date of the provision to read “(JUN 2005)”.

552.219-72 [Amended]

3. Amend section 552.219-72 by—

a. Removing from the introductory text the reference “519.708(b)” and inserting “519.708-70(b)” in its place;

b. Revising the date of the provision to read “(JUN 2005)”;

c. Removing the word “products” from paragraph (a); and

d. Removing from paragraph (b) the words “and women-owned” from the first and second sentences, and inserting “women-owned, veteran-owned, and service-disabled veteran owned” in their place, and in the third sentence remove the word “products”.

552.219-73 [Amended]

4. Amend section 552.219-73 by—

a. Removing from the introductory text the reference “519.708(c)” and inserting “519.708-70(c)” in its place;

b. Revising the date of the provision to read “(JUN 2005)”;

c. Removing from paragraph (a)(2) the words “and women-owned” from the first and second sentences, and inserting “women-owned, veteran-owned, and service-disabled veteran owned” in their place, and in the second sentence remove the word “products”.

d. Revising the list following paragraph (b) intro text (the Note remains unchanged); and

e. Removing from Alternate I the reference “519.708(c)(2)” and inserting “519.708-70(c)(2)” in its place.

The added text reads as follows:

552.219-73 Goals for Subcontracting Plan.

* * * * *

(b) * * *

Small Business ___percent

HUBZone

Small Business ___percent

Small Disad-

vantage Business ___percent

Women-Owned

Small Business ___percent

Veteran-Owned

Small Business ___percent

Service-Disabled

Veteran-Owned

Small Business ___percent

* * * * *

552.219-71, 552.219-72, 552.219-73 [Amended]

5. In addition to the amendments set forth above, remove the words “and women-owned” and add “women-owned, veteran-owned, and service-disabled veteran owned” in its place in the following places:

(a) Section 552.219-71 from the first and third sentences;

(b) Section 552.219-72 (c) intro text, (c)(1), (d)(3), and (d)(4); and

(c) Section 552.219-73 (a)intro text, (a)(1), (b), (c)(3), and (c)(4).

[FR Doc. 05-10934 Filed 6-2-05; 8:45 am]

BILLING CODE 6820-61-S